DEPARTMENT OF THE INTERIOR

Bureau of Land Management

[BLM_OR_FRN_MO4500169742]

Notice of Availability of the Proposed Southeastern Oregon Resource Management Plan Amendment and Final Environmental Impact Statement

AGENCY: Bureau of Land Management, Interior.

ACTION: Notice of availability.

SUMMARY: In accordance with the National Environmental Policy Act of 1969, as amended, and the Federal Land Policy and Management Act of 1976, as amended, the Bureau of Land Management (BLM) has prepared a Proposed Resource Management Plan (RMP) Amendment/Final Environmental Impact Statement (EIS) for the 2002 Southeastern Oregon RMP, and by this notice is announcing the start of a 30-day protest period of the Proposed RMP Amendment.

DATES: This notice announces the beginning of a 30-day protest period to the BLM on the Proposed RMP Amendment. Protests must be postmarked or electronically submitted on the BLM's ePlanning site within 30 days of the date that the Environmental Protection Agency (EPA) publishes its Notice of Availability (NOA) in the Federal Register. The EPA usually publishes its NOAs on Fridays.

ADDRESSES: The Proposed RMP Amendment/Final EIS is available on the BLM's ePlanning page at https://eplanning.blm.gov/eplanning-ui/project/87435/510. On the project summary page, click on “Documents” on the left side of the screen to find the electronic version of the Proposed RMP Amendment/Final EIS. Hard copies of the Proposed RMP Amendment/Final EIS are also available for public inspection at the BLM Vale District Office, 100 Oregon Street, Vale, Oregon 97918, telephone: (541) 473-3144.

Instructions for filing a protest with the BLM for the Proposed RMP Amendment/Final EIS for the 2002 Southeastern Oregon RMP can be found at: https://www.blm.gov/programs/planning-and-nepa/public-participation/filing-a-plan-protest and at 43 CFR 1610.5-2.

FOR FURTHER INFORMATION CONTACT: Brent Grasty, Planning and Environmental Coordinator, Vale District Office; telephone: (541) 473-3144; email: bgrasty@blm.gov. Individuals in the United States who are deaf, deafblind, hard of hearing, or have a speech disability may dial 711 (TTY, TDD, or TeleBraille) to access telecommunications relay services for contacting Mr. Grasty. Individuals outside the United States should use the relay services offered within their country to make international calls to the point-of-contact in the United States.

SUPPLEMENTARY INFORMATION: The RMP amendment would change the existing 2002 Southeastern Oregon RMP. The Southeastern Oregon planning area covers approximately 4.6 million acres of public lands in Malheur, Grant, Harney, and Baker counties. The area is characterized by a basin and range topography with remote canyons, desert, and mountain systems. The Final EIS evaluates six alternatives that address lands with wilderness characteristics; determine open, limited, and closed off-highway vehicle area allocations; provide livestock grazing management practices related to areas that fail to meet the BLM's Standards for Rangeland Health; and address voluntary livestock grazing permit relinquishments. Resource uses not addressed by the alternatives in this focused amendment will continue to be managed under the direction of the 2002 Southeastern Oregon RMP and Record of Decision, as amended by the 2015 and 2019 Approved Oregon Greater Sage-Grouse RMP Amendments.

The Proposed RMP Amendment/Final EIS responds to comments the BLM received on the Draft EIS during the 90-day public comment period that began on May 29, 2019. During the public comment period, the BLM held open houses in Ontario and Jordan Valley, Oregon, and McDermitt, Nevada. A summary of the comments received during the public comment period and responses to those comments can be found in Appendix P of the Proposed RMP Amendment/Final EIS.

Under the Proposed RMP Amendment, the BLM would protect 33 of the 76 areas the BLM identified as having wilderness characteristics. These 33 areas, which total 417,190 acres, are the units that were prioritized for protection under Alternative D in the Draft RMP Amendment/Draft EIS. The 33 units were identified using criteria established by the BLM's Southeast Oregon Resource Advisory Council that emphasized vegetative conditions, hydrologic function, and the proximity to other protected areas. The Proposed RMP Amendment would also designate these 33 protected areas as: Visual Resource Management Class II public lands, which only allows for low levels of change to the landscapes' visual character; Land Tenure Zone 1, where the BLM would retain these lands in public ownership for the life of the RMP; exclusion areas for major rights-of-way and commercial renewable energy projects; and lands where no surface occupancy for the development and extraction of leasable and saleable minerals, including new mineral material sites, would be authorized. The Proposed RMP Amendment would establish a 250-foot setback area from the protected areas' boundaries to provide the BLM with management flexibility to maintain the long-term sustainability of the public lands while still maintaining or enhancing the wilderness characteristics within the protected areas.

The Proposed RMP Amendment would also change 319,501 acres of off-highway vehicle (OHV) area allocations within the planning area from open to limited OHV areas, which would limit OHV travel to existing routes and prohibit cross-country travel. This would create a total of 4.5 million acres within the planning area where OHV use would be limited to existing routes, and all of the protected lands with wilderness characteristics are within this limited OHV area category. The Proposed RMP Amendment would retain two open OHV areas totaling 40,368 acres and maintain the current 15,829 acres of closed OHV areas.

The Proposed RMP Amendment would provide additional guidance on the implementation of the BLM's Standards for Rangeland Health and the processing of voluntary grazing permit relinquishments. The Proposed RMP Amendment calls for the consideration of taking appropriate action in areas that are not meeting Standards for Rangeland Health even if existing livestock grazing is not a causal factor for non-attainment of the standard. The Proposed RMP Amendment also clarifies that the BLM would not permit increases to animal unit months if analysis finds that doing so could cause negative impacts to other resources in an area where there is either no rangeland health assessment and evaluation or if the evaluation no longer represents the existing resource conditions. The Proposed RMP Amendment calls for the BLM to review the compatibility of livestock grazing use with other existing resources in the permitted area when a voluntary permit relinquishment is received. If livestock grazing is found to be incompatible, the area could become unavailable to grazing and the forage allocation would be made to another resource. If grazing is found to be compatible with the other resource considerations, then the area would remain available to livestock grazing, and/or could be designated as a reserve common allotment.

The other alternatives evaluated in the Final EIS are the No Action Alternative and Alternatives A, B, C, and D. These alternatives vary in the acreages of lands with wilderness characteristics identified for protection; the acreages of open, limited, and closed OHV area allocations; and various livestock grazing management approaches for implementing the Standards for Rangeland Health and processing voluntary permit relinquishments.

Protest of the Proposed RMP Amendment

BLM planning regulations state that any person who participated in the preparation of the RMP and has an interest that will or might be adversely affected by approval of the Proposed RMP Amendment may protest its approval to the BLM. Protest on the Proposed RMP Amendment constitutes the final opportunity for administrative review of the proposed land use planning decisions prior to the BLM adopting an approved RMP Amendment. Instructions for filing a protest with the BLM regarding the Proposed RMP Amendment may be found online (see ADDRESSES). All protests must be in writing and mailed to the appropriate address or submitted electronically through the BLM ePlanning project website (see ADDRESSES). Protests submitted electronically by any means other than the ePlanning project website or by fax will be invalid unless a hard copy of the protest is also submitted. The BLM will render a written decision on each protest. The protest decision of the BLM shall be the final decision of the Department of the Interior. Responses to valid protest issues will be compiled and documented in a Protest Resolution Report made available following the protest resolution online at: https://www.blm.gov/programs/planning-and-nepa/public-participation/protest-resolution-reports. Upon resolution of protests, the BLM will issue a Record of Decision and Approved RMP Amendment.

Before including your address, phone number, email address, or other personal identifying information in your protest, you should be aware that your entire protest—including your personal identifying information—may be made publicly available at any time. While you can ask us in your protest to withhold from public review your personal identifying information, we cannot guarantee that we will be able to do so.

(Authority: 40 CFR 1506.6, 40 CFR 1506.10, 43 CFR 1610.2, 43 CFR 1610.5)

Barry R. Bushue,
State Director, Oregon/Washington.

[FR Doc. 2023-12847 Filed 6-15-23; 8:45 am]

BILLING CODE P